SMALL BUSINESS ADMINISTRATION

Reporting and Recordkeeping Requirements Under OMB Review

AGENCY: Small Business Administration.

ACTION: 30-Day notice.

SUMMARY: The U.S. Small Business Administration (SBA) is seeking approval from the Office of Management and Budget (OMB) for a new information collection described below. In accordance with the Paperwork Reduction Act and OMB procedures, SBA is publishing this notice to allow all interested members of the public an additional 30 days to provide comments on the proposed collection of information.

DATES: Submit comments on or before July 31, 2025.

ADDRESSES: Written comments and recommendations for this information collection request should be sent within 30 days of publication of this notice to www.reginfo.gov/public/do/ PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Alethea.TenEyck-Sanders@sba.gov; (202) 996-4329, or from www.reginfo.gov/public/do/PRAMain.

SUPPLEMENTARY INFORMATION:

This voluntary collection form enables the program office to assess both the quality of the Boots to Business courses and outcomes achieved by participants after attending Boots to Business. The data will be used for overall program management, continuous improvement initiatives, and reporting outcomes to better serve veteran entrepreneurs. Information used for reporting will be done in the aggregate and will not include Personally Identifiable Information (PII).

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0390.

Title: Boots to Business Post Course Surveys.

Description of Respondents: Boots to Business Program Participants.

SBA Form Number: None.

Estimated Number of Respondents: 4,000.

Estimated Annual Responses: 4,000.

Estimated Annual Hour Burden: 667.

Alethea Ten Eyck-Sanders,
Agency Clearance Officer.

[FR Doc. 2025-12269 Filed 6-30-25; 8:45 am]

BILLING CODE 8026-09-P